DEPARTMENT OF THE INTERIOR

Office of the Secretary

Departmental Non-Retaliation Policy

AGENCY: Office of the Secretary, Interior.

ACTION: Notice.

SUMMARY: The Department of the Interior announces adoption of a small business non-retaliation policy. If a small business questions or lodges a complaint regarding a policy or action of the Department or one of its bureaus, or seeks outside help in dealing with a Department or Bureau policy or action, the Department of the Interior will not retaliate in any fashion. The full policy is set out in the body of this notice.

DATES: This policy is effective on March 30, 2007 and remains in effect until modified or rescinded.

ADDRESSES: Although we are not requesting them, you may make comments on this notice. To make sure that your comments and related material are not entered more than once in the docket, please submit them by only one of the following means:

—Mail: John Strylowski, Executive Secretariat, Department of the Interior, MS-7229 MIB, 1849 C Street, NW., Washington, DC 20240.

—E-mail: John_Strylowski@ios.doi.gov Include the number 1084-AA00 in the subject line of the message.

—Fax: (202) 219-2100.

—Hand delivery: Executive Secretariat, Department of the Interior, MS-7229 MIB, 1849 C Street, NW., Washington, DC 20240.

FOR FURTHER INFORMATION CONTACT: John Strylowski, Executive Secretariat, 1849 C Street, NW., MS 7229 MIB, Washington, DC 20240; telephone: 202-208-3071; e-mail: john_strylowski@ios.doi.gov.

SUPPLEMENTARY INFORMATION: The Office of the National Ombudsman of the U.S. Small Business Administration (SBA) has asked each Federal agency to adopt a policy that the agency will not retaliate against small businesses that question or complain about the way the agency does business. In response to this request, the Department hereby establishes the following non-retaliation policy, which applies to any person or organization commenting on any action taken by the Department:

We will not retaliate against you in any fashion if you question or lodge a complaint regarding a policy or action of the Department of the Interior or any of its bureaus. This policy applies if you complain or comment to us or to anyone else, or if you seek outside help in dealing with a Department or bureau policy or action. This policy does not affect the right of the Department or any of its bureaus to impose penalties allowed by a contract or agreement or to terminate for unsatisfactory performance any contract or agreement. This policy does not require the Department or its bureaus to enter into or continue any contract or agreement that is not satisfactory to the Department.

If you think that we have broken this promise, we will investigate, take appropriate action, and make sure that mistakes are not repeated. You may comment, ask questions, or file a complaint about Department of the Interior policies or actions by:

—Contacting any office of Department of the Interior or any of its constituent bureaus;

—Writing to the Small Business Contact, Executive Secretariat, Department of the Interior, MS-7229 MIB, 1849 C Street, NW., Washington, DC 20240;

—Sending an e-mail to: Exsec@ios.doi.gov.

If you are a small business, you can also contact the Small Business Administration Office of the National Ombudsman at 888-REG-FAIR (734-3247), fax: 202-481-5719, e-mail: ombudsman@sba.gov.

Small businesses generally are independently owned and operated and are not dominant in their field. If you need help determining whether or not your business qualifies as a “small business,” contact SBA's Office of the National Ombudsman using the information in the preceding paragraph.

Dated: February 26, 2007.
R. Thomas Weimer,
Assistant Secretary—Policy, Management and Budget.

[FR Doc. E7-5913 Filed 3-29-07; 8:45 am]

BILLING CODE 4310-RK-P